COMMITTEE FOR THE IMPLEMENTATION OF TEXTILE AGREEMENTS

Request for Public Comment on a Commercial Availability Request Under the U.S.-Morocco Free Trade Agreement

AGENCY: Committee for the Implementation of Textile Agreements (CITA).

ACTION: Request for public comments concerning a request for modification of the U.S.-Morocco Free Trade Agreement (USMFTA) rules of origin for certain knit apparel made from certain knit fabrics.

SUMMARY: The Government of the United States received a request from the Government of Morocco on October 10, 2017, on behalf of SALSABILE to initiate consultations under Article 4.3.3 of the USMFTA. The Government of Morocco is requesting that the United States and Morocco (“the Parties”) consider revising the rules of origin for certain knit apparel to address availability of supply of certain knit fabrics in the territories of the Parties. The President of the United States may proclaim a modification to the USMFTA rules of origin for textile and apparel products after the United States reaches an agreement with the Government of Morocco on a modification under Article 4.3.6 of the USMFTA to address issues of availability of supply of fibers, yarns, or fabrics in the territories of the Parties. CITA hereby solicits public comments on this request, in particular with regard to whether certain knit fabrics can be supplied by the U.S. domestic industry in commercial quantities in a timely manner.

DATES: Comments must be submitted by January 5, 2018 to the Chairman, Committee for the Implementation of Textile Agreements, Room 30003, United States Department of Commerce, Washington, DC 20230.

FOR FURTHER INFORMATION CONTACT: Linda Martinich, Office of Textiles and Apparel, U.S. Department of Commerce, (202) 482-3588.

SUPPLEMENTARY INFORMATION:

Authority: Section 203 (j)(2)(B)(i) of the United States-Morocco Free Trade Agreement Implementation Act (19 U.S.C. 3805 note) (USMFTA Implementation Act); Executive Order 11651 of March 3, 1972, as amended.

Background: Article 4.3.3 of the USMFTA provides that, on the request of either Party, the Parties shall consult to consider whether the rules of origin applicable to a particular textile or apparel good should be revised to address issues of availability of supply of fibers, yarns, or fabrics in the territories of the Parties. In the consultations, pursuant to Article 4.3.4 of the USMFTA, each Party shall consider data presented by the other Party that demonstrate substantial production in its territory of a particular fiber, yarn, or fabric. The Parties shall consider that there is substantial production if a Party demonstrates that its domestic producers are capable of supplying commercial quantities of the fiber, yarn, or fabric in a timely manner. The USMFTA Implementation Act provides the President with the authority to proclaim as part of the HTSUS, modifications to the USMFTA rules of origin set out in Annex 4-A of the USMFTA as are necessary to implement an agreement with Morocco under Article 4.3.6 of the USMFTA, subject to the consultation and layover requirements of Section 104 of the USMFTA Implementation Act. See Section 203(j)(2)(B)(i) of the USMFTA Implementation Act. Executive Order 11651 established CITA to supervise the implementation of textile trade agreements and authorizes the Chairman of CITA to take actions or recommend that appropriate officials or agencies of the United States take actions necessary to implement textile trade agreements. 37 FR 4699 (March 4, 1972).

The Government of the United States received a request from the Government of Morocco on October 10, 2017, on behalf of SALSABILE, requesting that the United States consider whether the USMFTA rule of origin for certain knit apparel should be modified to allow the use of certain knit fabrics that are not originating under the USMFTA. The fabrics subject to this request, according to the fabric number in the request and organized by specific apparel end-use, are:

Knit apparel classified in chapter 61 of the Harmonized Tariff Schedule of the United States (HTSUS):

Fabric 7: Dyed knit fabric of cotton (51-60%), rayon (30-40%), and nylon (4-10%), classified in subheading 6006.22 of the HTSUS.

Knit apparel and accessories classified in chapter 61 of the HTSUS, except babies' socks and booties of heading 6111 and hosiery of heading 6115:

Fabric 8: Knit fabric of rayon (50-84%), polyester (14-49%), and elastomeric (1-10%), classified in subheadings 6004.10, 6005.41, 6005.42, 6005.43, 6005.44, 6006.41, 6006.42, 6006.43, and 6006.44 of the HTSUS;

Fabric 9: Knit fabric of polyester (50-65%), rayon (30-49%), and elastomeric (1-10%), classified in subheadings 6004.10, 6005.36, 6005.37, 6005.38, 6005.39, 6006.31, 6006.32, 6006.33, and 6006.34 of the HTSUS;

Fabric 10: Knit fabric of rayon (90-99%) and elastomeric (1-10%), classified in subheadings 6004.10, 6005.41, 6005.42, 6005.43, 6005.44, 6006.41, 6006.42, 6006.43, and 6006.44 of the HTSUS;

Fabric 11: Knit fabric of rayon (51-84%) and polyester (16-49%), classified in subheadings 6005.41, 6005.42, 6005.43, 6005.44, 6006.41, 6006.42, 6006.43, and 6006.44 of the HTSUS;

Fabric 12: Knit fabric of polyester (51-65%) and rayon (35-49%), classified in subheadings 6005.36, 6005.37, 6005.38, 6005.39, 6006.31, 6006.32, 6006.33, and 6006.34 of the HTSUS; and

Fabric 13: Knit fabric of synthetic fiber (90-99%) and elastomeric (1-10%), classified in subheadings 6004.10, 6005.37, 6005.38, 6005.39, 6006.32, 6006.33, and 6006.34 of the HTSUS.

Knit shirts; blouses; singlets; tank tops and similar garments; pullovers; sweatshirts; waistcoats (vests) and similar articles; tops; dresses; skirts; and divided skirts classified in headings 6104, 6105, 6106, 6109, 6110, and 6114 of the HTSUS:

Fabric 19: Slub jersey fabric, other than warp knit, of rayon (92-98%), polyester (2-3%), and elastomeric (2-5%), weighing 150-200 g/m2, classified in subheadings 6004.10 and 6006.42 of the HTSUS.

Upper body garments classified in headings 6105, 6106, 6109, and 6110 of the HTSUS:

Fabric 17: Knit fabric of cotton (51-70%), rayon (33-49%), and elastomeric (2-7%), weighing up to 275 g/m2, classified in subheadings 6004.10, 6006.21, 6006.22, and 6006.24 of the HTSUS.

Upper body garments classified in headings 6105, 6106, 6109, 6110, and 6114 of the HTSUS:

Fabric 14: Knit jersey fabric, other than warp knit, of lyocell (44-50%), rayon (44-50%), and elastomeric (3-9%), weighing 150-220 g/m2, classified in subheadings 6004.10 and 6006.42 of the HTSUS;

Fabric 15: Slub jersey fabric of cotton (51-65%) and rayon (35-49%), weighing 120-225 g/m2, classified in subheading 6006.22 of the HTSUS;

Fabric 16: Knit jersey fabric, other than warp knit, of rayon (30-36%), acrylic (19-35%), polyester (27-33%), and elastomeric (3-8%), weighing 125-250 g/m2, classified in subheadings 6004.10 and 6006.32 of the HTSUS; and

Fabric 18: Knit jersey fabric, other than warp knit, of polyester (43-46%), rayon (43-45%), flax (5-9%), and elastomeric (4-5%), weighing 125-250 g/m2, classified in subheadings 6004.10 and 6006.32 of the HTSUS.

Sweaters, pullovers, sweatshirts, waistcoats (vests) and similar articles, classified in heading 6110 of the HTSUS:

Fabric 5: Dyed knit fabric of cotton (50-56%), acrylic (34-40%), and polyester (7-13%), classified in subheadings 6006.22 and 6006.32 of the HTSUS.

Sweaters, pullovers, sweatshirts, waistcoats (vests) and similar articles, classified in subheading 6110.30 of the HTSUS:

Fabric 1: Knit fleece fabric of acrylic (67-73%) and viscose (27-33%), weighing 200-280 g/m2, classified in subheading 6001.22 of the HTSUS;

Fabric 2: Dyed knit fabric of nylon (52-58%), wool (27-33%), and acrylic (12-18%), classified in subheading 6006.32 of the HTSUS;

Fabric 3: Dyed knit fabric of nylon (42-48%), viscose (37-43%), and wool (12-18%), classified in subheading 6006.32 of the HTSUS;

Fabric 4: Dyed knit fabric of nylon (41-47%), wool (18-24%), acrylic (18-24%), and mohair (11-17%), classified in subheading 6006.32 of the HTSUS; and

Fabric 6: Dyed knit fabric of polyester (57-63%), wool (27-33%), and nylon (7-13%), classified in subheading 6006.32 of the HTSUS.

CITA is soliciting public comments regarding this request, particularly with respect to whether the fabrics described above can be supplied by the U.S. domestic industry in commercial quantities in a timely manner. Comments must be received no later than January 5, 2018. Interested persons are invited to submit such comments or information electronically to OTEXA_MoroccoFTA@trade.gov, and/or in hard copy to: Chairman, Committee for the Implementation of Textile Agreements, Room 30003, U.S. Department of Commerce, 14th and Constitution Avenue NW., Washington, DC 20230.

If comments include business confidential information, commenters must submit a business confidential version in hard copy to the Chairman of CITA, and also provide a public version, either in hard copy or electronically. CITA will protect any information that is marked business confidential from disclosure to the full extent permitted by law. All public versions of the comments will be posted on OTEXA's Web site for Commercial Availability proceedings under the Morocco FTA: http://otexa.trade.gov/Morocco_CA.htm.

Terry Labat,
Acting Chair, Committee for the Implementation of Textile Agreements.

[FR Doc. 2017-24088 Filed 11-3-17; 8:45 am]

BILLING CODE 3510-DR-P